DEPARTMENT OF THE INTERIOR

National Park Service

[NPS-WASO-NAGPRA-18039; PPWOCRADN0-PCU00RP15.R50000]

Notice of Inventory Completion: Grand Valley State University, Allendale, MI; Correction

AGENCY: National Park Service, Interior.

ACTION: Notice; correction.

SUMMARY: Grand Valley State University has corrected an inventory of human remains published in a Notice of Inventory Completion in the Federal Register on February 2, 2015. This notice corrects the minimum number of individuals listed in that notice. Lineal descendants or representatives of any Indian tribe or Native Hawaiian organization not identified in this notice that wish to request transfer of control of these human remains should submit a written request to Grand Valley State University. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to Grand Valley State University at the address in this notice by June 22, 2015.

ADDRESSES: Janet G. Brashler, Professor and Curator of Anthropology, Grand Valley State University, 1 Campus Drive, Allendale, MI 49401, telephone (616) 331-3694, email brashlej@gvsu.edu.

SUPPLEMENTARY INFORMATION: Notice is here given in accordance with the Native American Graves Protection and Repatriation Act (NAGPRA), 25 U.S.C. 3003, of the correction of an inventory of human remains under the control of Grand Valley State University, Allendale, MI. The human remains were removed from near Muir, Ionia County, MI.

This notice is published as part of the National Park Service's administrative responsibilities under NAGPRA, 25 U.S.C. 3003(d)(3). The determinations in this notice are the sole responsibility of the museum, institution, or Federal agency that has control of the Native American human remains. The National Park Service is not responsible for the determinations in this notice.

This notice corrects the minimum number of individuals published in a Notice of Inventory Completion in the Federal Register (80 FR 6014, February 4, 2015). Re-inventory of a collection donated to Grand Valley State University by an avocational archeologist in 2001 revealed the presence of several cranial elements from a minimum number of one individual. No other human remains were identified in the collection. Transfer of control of the items in this correction notice has not occurred.

Correction

In the Federal Register (80 FR 6018, February 4, 2015), paragraph 3 is corrected by inserting the following paragraph:

On an unknown date between 1950 and 1990, human remains representing, at minimum, one individual were removed from an archeological site in the vicinity of Muir Michigan in Ionia County by avocational archeologist Buerl Guernsey. Guernsey subsequently donated his collection in 2001 to the Grand Valley State University Department of Anthropology Laboratory. The remains are those of an adult of undetermined sex and were recovered during surface collection from one of a series of sites in the vicinity. The date and time period for the remains is unknown because sites from the Woodland to Late Prehistoric (600 B.C.-A.D. 1640) are present in the area. No known individuals were identified. No associated funerary objects are present.

In the Federal Register (80 FR 6018, February 4, 2015), paragraph 4 is corrected by substituting the following paragraph:

Pursuant to 25 U.S.C. 3001(9), the human remains described in this notice represent the physical remains of 112 individuals of Native American ancestry.

Additional Requestors and Disposition

Lineal descendants or representatives of any Indian tribe or Native Hawaiian organization not identified in this notice that wish to request transfer of control of these human remains should submit a written request with information in support of the request to Janet G. Brashler, Professor and Curator of Anthropology, Grand Valley State University, 1 Campus Drive, Allendale, MI 49401, telephone (616) 331-3694, email brashlej@gvsu.edu, by June 22, 2015. After that date, if no additional requestors have come forward, transfer of control of the human remains to the Absentee-Shawnee Tribe of Indians of Oklahoma; Bad River Band of the Lake Superior Tribe of Chippewa Indians of the Bad River Reservation, Wisconsin; Bay Mills Indian Community, Michigan; Bois Forte Band (Nett Lake) of the Minnesota Chippewa Tribe, Minnesota; Chippewa-Cree Indians of the Rocky Boy's Reservation, Montana; Citizen Potawatomi Nation, Oklahoma; Delaware Nation, Oklahoma; Delaware Tribe of Indians; Eastern Shawnee Tribe of Oklahoma; Fond du Lac Band of the Minnesota Chippewa Tribe, Minnesota; Forest County Potawatomi Community, Wisconsin; Grand Portage Band of the Minnesota Chippewa Tribe, Minnesota; Grand Traverse Band of Ottawa and Chippewa Indians, Michigan; Hannahville Indian Community, Michigan; Keweenaw Bay Indian Community, Michigan; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Leech Lake Band of the Minnesota Chippewa Tribe, Minnesota; Little River Band of Ottawa Indians, Michigan; Little Traverse Bay Bands of Odawa Indians, Michigan; Match-e-be-nash-she-wish Band of Pottawatomi Indians of Michigan; Miami Tribe of Oklahoma; Mille Lacs Band of the Minnesota Chippewa Tribe, Minnesota; Nottawaseppi Huron Band of the Potawatomi, Michigan (previously listed as the Huron Potawatomi, Inc.); Ottawa Tribe of Oklahoma; Peoria Tribe of Indians of Oklahoma; Prairie Band Potawatomi Nation (previously listed as the Prairie Band of Potawatomi Nation, Kansas); Pokagon Band of Potawatomi Indians, Michigan and Indiana; Quechan Tribe of the Fort Yuma Indian Reservation, California & Arizona; Red Cliff Band of Lake Superior Chippewa Indians of Wisconsin; Red Lake Band of Chippewa Indians, Minnesota; Sac & Fox Nation of Missouri in Kansas and Nebraska; Sac & Fox Nation, Oklahoma; Sac & Fox Tribe of the Mississippi in Iowa; Saginaw Chippewa Indian Tribe of Michigan; Sault Ste. Marie Tribe of Chippewa Indians, Michigan; Seneca Nation of Indians (previously listed as the Seneca Nation of New York); Seneca-Cayuga Tribe of Oklahoma; Shawnee Tribe; Sokaogon Chippewa Community, Wisconsin; St. Croix Chippewa Indians of Wisconsin; Tonawanda Band of Seneca (previously listed as the Tonawanda Band of Seneca Indians of New York); Turtle Mountain Band of Chippewa Indians of North Dakota; White Earth Band of the Minnesota Chippewa Tribe, Minnesota; and the Wyandotte Nation may proceed. Hereafter, all tribes listed in this section are referred to as “The Tribes.”

Grand Valley State University is responsible for notifying The Tribes that this notice has been published.

Dated: April 16, 2015.
Mariah Soriano,
Acting Manager, National NAGPRA Program.

[FR Doc. 2015-12529 Filed 5-21-15; 8:45 am]

BILLING CODE 4312-50-P